DEPARTMENT OF TRANSPORTATION

Federal Aviation Administration

[Advisory Circular Number AC 23-17B]

Advisory Circular on Systems and Equipment Guide for Certification of Part 23 Airplanes and Airships

AGENCY: Federal Aviation Administration, DOT.

ACTION: Notice of availability; request for comments.

SUMMARY: This notice announces a Federal Aviation Administration (FAA) proposed advisory circular that sets forth an acceptable means, but not the only means of showing compliance with Title 14 Code of Federal Regulations (14 CFR), part 23, for the certification of systems and equipment in normal, utility, acrobatic, and commuter category airplanes and airships. The policy in this advisory circular is considered applicable for airship projects; however, the certifying office should only use specific applicability and requirements if they are determined to be reasonable, applicable and relevant to the airship project. This advisory circular applies to subpart D from 23.671 and subpart F. This advisory circular both consolidates existing policy documents, and certain advisory circulars that cover specific paragraphs of the regulations, into a single document and adds new guidance. This notice is necessary to advise the public of this FAA advisory circular and give all interested persons an opportunity to present their views on it.

DATES: Send your comments by October 29, 2004.

Discussion: We are making this proposed advisory circular available to the public and all manufacturers for their comments.

ADDRESSES: Copies of the proposed advisory circular, AC 23-17B, may be requested from the following: Small Airplane Directorate, Standards Office (ACE-110), Aircraft Certification Service, Federal Aviation Administration, 901 Locust Street, Room 301, Kansas City, MO 64106. The proposed advisory circular is also available on the Internet at the following address http://www.airweb.faa.gov/AC. Send all comments on this proposed advisory circular to the individual identified under FOR FURTHER INFORMATION CONTACT.

FOR FURTHER INFORMATION CONTACT: Leslie B. Taylor, Federal Aviation Administration, Small Airplane Directorate, Regulations & Policy, ACE-111, 901 Locust Street, Room 301, Kansas City, Missouri 64106; telephone: (816) 329-4134; fax: 816-329-4090; e-mail: leslie.b.taylor.@faa.gov.

SUPPLEMENTARY INFORMATION:

Comments Invited

We invite your comments on this proposed advisory circular. Send any data or views as you may desire. Identify the proposed Advisory Circular Number AC 23-17B on your comments, and if you submit your comments in writing, send two copies of your comments to the above address. The Small Airplane Directorate will consider all communications received on or before the closing date for comments. We may change the proposal contained in this notice because of the comments received.

Comments sent by fax or the Internet must contain “Comments to proposed advisory circular AC 23-17B” in the subject line. You do not need to send two copies if you fax your comments or send them through the Internet. If you send comments over the Internet as an attached electronic file, format it in either Microsoft Word 97 for Windows or ASCII text.

State what specific change you are seeking to the proposed advisory circular and include justification (for example, reasons or data) for each request.

Issued in Kansas City, Missouri on September 21, 2004.
David R. Showers,
Acting Manager, Small Airplane Directorate, Aircraft Certification Service.

[FR Doc. 04-21861 Filed 9-28-04; 8:45 am]

BILLING CODE 4910-13-P